DEPARTMENT OF THE TREASURY

Submission for OMB Review, Comment Request

ACTION: Notice and request for comments.

SUMMARY: The Department of the Treasury, as part of its continuing effort to reduce paperwork and respondent burden, invites the general public and other Federal agencies to comment on one new proposed information collection, as required by the Paperwork Reduction Act of 1995, Public Law 104-13 (44 U.S.C. 3506(c)(2)(A)). The new clearance will allow the Office of Financial Stability, within the Department of the Treasury, to collect information from homeowners that have received mortgage modifications under the Home Affordable Modification Program (HAMP), in order to study the performance of HAMP modifications.

DATES: Written comments should be received on or before September 9, 2013 to be assured of consideration.

ADDRESSES: Comments regarding these information collections should be addressed to the Department of the Treasury, Departmental Offices, Office of Financial Stability, ATTN: Karen Chang, 1500 Pennsylvania Avenue NW., Washington, DC 20220.

FOR FURTHER INFORMATION CONTACT: Requests for additional information should be directed to the Department of the Treasury, Departmental Offices, Office of Financial Stability, ATTN: Karen Chang, 1500 Pennsylvania Avenue NW., Washington, DC 20220.

SUPPLEMENTARY INFORMATION:

Title: Study of MHA Program Performance.

OMB Control Number: NEW.

Abstract: Pursuant to its authority under the Emergency Economic Stabilization Act (EESA) of 2008 (Pub. L. 110-343), the Department of the Treasury established the Making Home Affordable Program (MHA), a voluntary foreclosure prevention program, to help stabilize the housing market. Under MHA, the Department pays financial incentives to homeowners, servicers and investors to facilitate loan modifications and other foreclosure alternatives. MHA includes, among other things, the Home Affordable Modification Program (HAMP). HAMP is designed to reduce each qualifying homeowner's first lien mortgage payments to an affordable level. The Department, through its financial agent, plans to conduct a survey of homeowners who have received mortgage modifications under HAMP and subsequently missed three consecutive payments, in order to collect information about the reasons for loss of good standing and the homeowner's experience during the HAMP modification process.

Type of Review: New Collection.

Affected Public: Individuals, Households.

Respondent's Obligation: Voluntary.

The study will likely involve up to 2400 subjects. Each individual data collection session will be approximately 15 to 20 minutes long.

Estimated Average Time per Respondent: 15 to 20 minutes per response.

Estimated Total Annual Burden Hours: Approximately 800 burden hours.

Request for Comments: Comments submitted in response to this notice will be summarized and/or included in the request for Office of Management and Budget approval. All comments will become a matter of public record. The public is invited to submit written comments concerning: (a) whether the collection of information is necessary for the proper performance of the functions of the agency, including whether the information will have practical utility; (b) the accuracy of the agency's estimate of the burden of the collection of information; (c) ways to enhance the quality, utility, and clarity of the information to be collected; and (d) ways to minimize the burden of the collection of information on respondents, including the use of automated collection techniques or other forms of information technology; and (e) estimates of capital or start-up costs and costs of operation, maintenance, and purchase of services to provide information.

Robert Dahl,
Treasury Department PRA Clearance Officer.

[FR Doc. 2013-16580 Filed 7-9-13; 8:45 am]

BILLING CODE 4810-25-P